DEPARTMENT OF JUSTICE

Antitrust Division

Notice Pursuant to the National Cooperative Research and Production Act of 1993—Hardwood Plywood & Veneer Association

Notice is hereby given that, on September 20, 2004, pursuant to section 6(a) of the National Cooperative Research and Production Act of 1993, 15 U.S.C. 4301 et seq. (“the Act”), Hardwood Plywood & Veneer Association (“HPVA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Hardwood Plywood & Veneer Association, Reston, VA. The nature and scope of HPVA's standards development activities are: establishment of the American National Standard for Hardwood and Decorative Plywood, and the American National Standard for Engineered Wood Flooring. The Standard for Hardwood and Decorative Plywood covers the principal types, face grades, back grades, inner ply grades and constructions of plywood made primarily with hardwood faces, formaldehyde emissions for hardwood plywood and certain reconstituted wood wall panels. Included are requirements for wood species and veneer grading; lumber, particle board, medium density fiberboard, and hardboard cores; bond line performance; panel construction; moisture content; and panel dimensions and tolerances. The standard provides producers, distributors, architects, contractors, builders and users with a common basis for understanding the characteristics of these products.

The Standard for Engineered Wood Flooring covers requirements for grading, moisture content, machining, bond line construction, formaldehyde emissions, and finish of engineered wood flooring. This standard is intended to provide producers, distributors, and users with a description of the characteristics and the basis for the manufacture and sale of these products.

Dorothy B. Fountain,
Deputy Director of Operations, Antitrust Division.

[FR Doc. 05-1976 Filed 2-1-05; 8:45 am]

BILLING CODE 4410-11-M